DEPARTMENT OF COMMERCE

Foreign-Trade Zones Board

[B-8-2024]

Foreign-Trade Zone (FTZ) 182; Authorization of Production Activity; Valbruna Slater Stainless Inc.; (Metal Ingots); Fort Wayne, Indiana

On February 12, 2024, Valbruna Slater Stainless Inc. submitted a notification of proposed production activity to the FTZ Board for its facility within Subzone 182A, in Fort Wayne, Indiana.

The notification was processed in accordance with the regulations of the FTZ Board (15 CFR part 400), including notice in the Federal Register inviting public comment (89 FR 12823, February 20, 2024). On June 11, 2024, the applicant was notified of the FTZ Board's decision that no further review of the activity is warranted at this time. The production activity described in the notification was authorized, subject to the FTZ Act and the FTZ Board's regulations, including section 400.14.

Dated: June 11, 2024.
Elizabeth Whiteman,
Executive Secretary.

[FR Doc. 2024-13153 Filed 6-13-24; 8:45 am]

BILLING CODE 3510-DS-P